DEPARTMENT OF THE INTERIOR

Bureau of Indian Affairs

25 CFR Part 900

RIN 1076-AE30

Contracts Under the Indian Self-Determination and Education Assistance Act; Change of Address for the Office of Hearings and Appeals

AGENCY: Bureau of Indian Affairs, Interior.

ACTION: Final rule; change of address.

SUMMARY: The Bureau of Indian Affairs is revising its regulations governing contracts under the Indian Self-Determination and Education Assistance Act to reflect a change of address for the Department of Interior's Office of Hearing and Appeals (OHA).

DATES: This rule is effective May 15, 2002.

FOR FURTHER INFORMATION CONTACT: Mitchell Chouteau, Program Analyst, Office of Administration, Bureau of Indian Affairs, Department of the Interior, 1849 C Street, NW, MS 4656 MIB, Washington, DC 20240, telephone 202-208-2675.

SUPPLEMENTARY INFORMATION:

I. Background

Regulations promulgated by the Department of the Interior to govern the administration of contracts under the Indian Self-Determination and Education Assistance Act reference an address for the Office of Hearings and Appeals (OHA). Since February 2002, this Office has moved to a new address within the same city of Arlington, Virginia. This action references the new street address.

II. Procedural Requirements

A. Determination To Issue Final Rule Effective in Less than 30 Days

BIA has determined that the public notice and comment provisions of the Administrative Procedure Act, 5 U.S.C. 553(b), do not apply to this rulemaking. The changes being made relate solely to matters of agency organization, procedure and practice. They therefore satisfy the exemption from notice and comment in 5 U.S.C. 553(b)(A).

B. Review Under Procedural Statutes and Executive Orders

BIA has reviewed this rule under the following statutes and Executive Orders governing rulemaking procedures: the Unfunded Mandates Reform Act of 1995, 2 U.S.C. 1501 et seq.; the Regulatory Flexibility Act, 5 U.S.C. 601 et seq.; the Small Business Regulatory Enforcement Fairness Act of 1996, 5 U.S.C. 801 et seq.; the Paperwork Reduction Act, 44 U.S.C. 3501 et seq.; Executive Order 12630 (Takings); Executive Order 12866 (Regulatory Planning and Review); Executive Order 12988 (Civil Justice Reform); Executive Order 13132 (Federalism); Executive Order 13175 (Tribal Consultation); and Executive Order 13211 (Energy Impacts). BIA has determined that this rule does not trigger any of the procedural requirements of those statutes and Executive Orders, since this rule merely changes the street address for OHA.

List of Subjects in 25 CFR Part 900

Administrative practice and procedure, Buildings and facilities, Claims, Government contracts, Government property management, Grant programs—Indians, Health care, Indians, Indians—business and finance.

For the reasons stated in the preamble, BIA amends its regulations in 25 CFR part 900 as follows:

PART 900—[AMENDED]

1. The authority citation for part 900 continues to read as follows:

Authority: 25 U.S.C. 450f et seq.

2. In part 900 revise “4015 Wilson Boulevard” to read “801 North Quincy Street” everywhere it appears.

Dated: May 3, 2002.
Neal A. McCaleb,
Assistant Secretary—Indian Affairs.

[FR Doc. 02-12080 Filed 5-14-02; 8:45 am]

BILLING CODE 4310-RK-P